ENVIRONMENTAL PROTECTION AGENCY

40 CFR Part 52

[EPA-R05-OAR-2007-0293; FRL-8490-2]

Approval and Promulgation of Air Quality Implementation Plans; Indiana; VOC Emissions From Fuel Grade Ethanol Production Operations; Withdrawal of Direct Final Rule

AGENCY: Environmental Protection Agency (EPA).

ACTION: Withdrawal of direct final rule.

SUMMARY: Due to the receipt of an adverse comment, the EPA is withdrawing the September 13, 2007 (72 FR 52286), direct final rule approving the State of Indiana's March 30, 2007, request to revise the Indiana State Implementation Plan (SIP) by adding a volatile organic compound (VOC) rule for fuel grade ethanol production at dry mills. In the direct final rule, EPA stated that if adverse comments were submitted by October 15, 2007, the rule would be withdrawn and not take effect. On October 8, 2007, EPA received a comment. EPA believes this comment is adverse and, therefore, EPA is withdrawing the direct final rule. EPA will address the comment in a subsequent final action based upon the proposed action also published on September 13, 2007 (72 FR 52320). EPA will not institute a second comment period on this action.

DATES: The direct final rule published at 72 FR 52286 on September 13, 2007, is withdrawn as of November 1, 2007.

FOR FURTHER INFORMATION CONTACT: Steven Rosenthal, Environmental Engineer, Criteria Pollutant Section, Air Programs Branch (AR-18J), Environmental Protection Agency, Region 5, 77 West Jackson Boulevard, Chicago, Illinois 60604, (312) 886-6052, Rosenthal.steven@epa.gov.

List of Subjects in 40 CFR Part 52

Environmental protection, Air pollution control, Incorporation by reference, Intergovernmental relations, Nitrogen dioxide, Ozone, Volatile organic compounds.

Dated: October 22, 2007.
Bharat Mathur,
Acting Regional Administrator, Region 5.

PART 52—[AMENDED]

Accordingly, the amendment to 40 CFR 52.770 published in the Federal Register on September 13, 2007 (72 FR 52286) on pages 52288-52289 is withdrawn as of November 1, 2007.

[FR Doc. E7-21526 Filed 10-31-07; 8:45 am]

BILLING CODE 6560-50-P